ENVIRONMENTAL PROTECTION AGENCY

[ER-FRL-6609-3]

Environmental Impact Statements; Notice of Availability

Responsible Agency: Office of Federal Activities, General Information, (202) 564-7167 or www.epa.gov/oeca/ofa

Weekly receipt of Environmental Impact Statements

Filed July 10, 2000 Through July 14, 2000

Pursuant to 40 CFR 1506.9.

• EIS No. 000243, Draft EIS, FHW, CO, South I-25 and US 85 Corridors Improvements, CO-470 to Castle Rock, Funding, Douglas County, CO, Due: September 05, 2000, Contact: Scott Sands P.E. (303) 969-6730.

• EIS No. 000244, Draft EIS, AFS, CA, Airport Forest Health Project, Forest Health Improvements through Reduction of Fuel Loads and Fire Hazards and Wildlife Habitat Improvements Implementation, Pacific Ranger District, El Dorado National Forest, El Dorado and Placer Counties, CA, Due: September 05, 2000, Contact: Krista Deal (530) 644-2349.

• EIS No. 000245, Draft EIS, FRA, FL, GA, MD, PA, CA, LA, NV, Programmatic—Maglev Deployment Program, Development and Construction of an Operating Public Transportation System using Magnetic Levitation, Grants Issuance, CA, FL, GA, LA, MD, NV and PA, Due: September 05, 2000, Contact: David Valenstein (202) 493-6383.

• EIS No. 000246, Draft EIS, AFS, OR, Anthony Lakes Mountain Resort Master Development Plan, Upgrading and Additional Development, Approval, Baker Ranger District, Wallowa-Whitman National Forest, Grant, Union and Baker Counties, OR, Due: September 05, 2000, Contact: Charles L. Ernst (541) 523-1901.

• EIS No. 000247, Final EIS, AFS, UT, Monroe Mountain Ecosystem Restoration Project, Implementation, Fishlake National Forest, Richfield Ranger District, Sevier and Piute Counties, UT, Due: August 21, 2000, Contact: Don Okerlund (435) 896-9233.

• EIS No. 000248, Final EIS, FAA, TX, George Bush Intercontinental Airport Houston, Construction and Operation, Runway 8L-26R and Associated Near Term Master Plan Projects, Funding and Airport Layout Plan Approval, City of Houston, Harris County, TX, Due: August 21, 2000, Contact: Ben R. Guttery (817) 222-5614.

• EIS No. 000249, Final EIS, SFW, WA, Simpson Washington Timberlands Forest Management and Timber Harvesting Project, Proposed Issuing of a Multiple Species Incidental Take Permit, Mason, Thurston and Gray Harbor Counties, WA, Due: August 21, 2000, Contact: Craig Hansen (360) 753-9440.

• EIS No. 000250, Final Supplement, IBR, NM, CO, Animas-La Plata Project (APL Project), Municipal and Industrial Water Supply, Reservoir Construction in Ridges Basin, Implementation and Water Acquisition, Additional Information concerning Project Alternatives Developed in 1996 through 1997, CO and NM, Due: August 21, 2000, Contact: Lilas Lindell (801) 524-3689.

• EIS No. 000251, Final EIS, IBR, CA, Programmatic—Calfed Bay-Delta Program, Long-Term Comprehensive Plan to Restore Ecosystem Health and Improve Water Management, Implementation, San Francisco Bay—Sacramento/San Joaquin River Bay-Delta, CA, Due: August 21, 2000, Contact: Rodney Johnson (916) 653-7286.

• EIS No. 000252, Final EIS, FHW, MI, I-96 East Howell Interchange Project, Transportation Improvements, Funding, Major Investment Study, Cities of Howell and Brighton, Livington County, MI, Due: August 21, 2000, Contact: James Kirschensteine (517) 377-1880-Ext 41).

Dated: July 18, 2000.
Joseph C. Montgomery,
Director, NEPA Compliance Division, Office of Federal Activities.

[FR Doc. 00-18552 Filed 7-20-00; 8:45 am]

BILLING CODE 6560-50-U